DEPARTMENT OF TRANSPORTATION

Federal Aviation Administration

14 CFR Part 39

[Docket No. FAA-2011-0223; Directorate Identifier 2010-NM-161-AD]

RIN 2120-AA64

Airworthiness Directives; Goodrich Evacuation Systems Approved Under Technical Standard Order (TSO) TSO-C69b and Installed on Airbus Model A330-200 and -300 Series Airplanes, Model A340-200 and -300 Series Airplanes, and Model A340-541 and -642 Airplanes

AGENCY: Federal Aviation Administration (FAA), DOT.

ACTION: Notice of proposed rulemaking (NPRM).

SUMMARY: We propose to supersede an existing airworthiness directive (AD) that applies to Goodrich evacuation systems approved under TSO-C69b and installed on certain Model A330-200 and -300 series airplanes, Model A340-200 and -300 series airplanes, and Model A340-541 and -642 airplanes. The existing AD currently requires inspecting to determine the part number of the pressure relief valves on the affected Goodrich evacuation systems, and corrective action if necessary. Since we issued that AD, we have received reports that during workshop testing, certain pressure relief valves, which were required by the existing AD, did not seal and allowed the pressure in slides/rafts to fall below the minimum raft mode pressure for the unit. This proposed AD would require inspecting to determine the part number of the pressure relief valves on the affected Goodrich evacuation systems and replacing certain pressure relief valves. This proposed AD would also add airplanes to the applicability. We are proposing this AD to prevent loss of pressure in the escape slides/rafts after an emergency evacuation, which could result in inadequate buoyancy to support the raft's passenger capacity during ditching and increase the chance for injury to raft passengers.

DATES: We must receive comments on this proposed AD by May 5, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Goodrich Corporation, Aircraft Interior Products, ATTN: Technical Publications, 3414 South Fifth Street, Phoenix, Arizona 85040; phone: 602-243-2270; e-mail: george.yribarren@goodrich.com; Internet: http://www.goodrich.com/TechPubs; for service information identified in this proposed AD. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; phone: 562-627-5352; fax: 562-627-5210; e-mail: Tracy.Ton@faa.gov.

SUPPLEMENTARY INFORMATION:

Comments Invited

We invite you to send any written relevant data, views, or arguments about this proposed AD. Send your comments to an address listed under the ADDRESSES section. Include “Docket No. FAA-2011-0223; Directorate Identifier 2010-NM-161-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 27, 2007, we issued AD 2007-23-01, Amendment 39-15247 (72 FR 62568 November 6, 2007), for Goodrich evacuation systems approved under TSO-C69b and installed on certain Model A330-200 and -300 series airplanes, Model A340-200 and -300 series airplanes, and Model A340-541 and -642 airplanes. That AD requires inspecting to determine the part number of the pressure relief valves on the affected Goodrich evacuation systems, and corrective action if necessary. That AD resulted from a report indicating that, during maintenance testing, the pressure relief valves on the affected Goodrich evacuation systems did not seal when activated, which caused the pressure in the escape slide/raft to drop below the minimum allowable raft mode pressure. We issued that AD to prevent loss of pressure in the escape slides/rafts after an emergency evacuation, which could result in inadequate buoyancy to support the raft's passenger capacity during ditching and increase the chance for injury to raft passengers.

Actions Since Existing AD Was Issued

Since we issued AD 2007-23-01, we have received reports that during workshop testing the pressure relief valves required by AD 2007-23-01 did not seal and allowed the pressure in some Model A330 and A340 series airplane slides/rafts to fall below the minimum raft mode pressure for the unit.

Relevant Service Information

We reviewed Goodrich Service Bulletin 7A1508/09/10/39-25-373, Revision 2, dated May 8, 2009; and Goodrich Service Bulletin 4A3928/4A3934-25-374, Revision 1, dated May 8, 2009. The service information describes, among other things, procedures for replacing certain pressure relief valves with new improved valves for applicable airplanes and doors as shown in the following table, and for marking the system identification placard on the girt.

Service Bulletin Airplane Model Valve Locations
Service bulletin | Affected airplanes | Doors
Goodrich Service Bulletin 7A1508/09/10/39-25-373 | Airbus Model A330-200 and -300 series airplanes, Model A340-200 and -300 series airplanes | Doors 1, 2, 3, and 4.
Goodrich Service Bulletin 7A1508/09/10/39-25-373 | Airbus Model A340-541 and -642 airplanes | Doors 1, 2, and 4.
Goodrich Service Bulletin 4A3928/4A3934-25-374 | Airbus Model A340-541 and -642 airplanes | Door 3.

FAA's Determination

We are proposing this AD because we evaluated all the relevant information and determined the unsafe condition described previously is likely to exist or develop in other products of the same type design.

Proposed AD Requirements

This proposed AD would retain none of the requirements of AD 2007-23-01. This proposed AD would require inspecting to determine the part number of the pressure relief valves on the affected Goodrich evacuation systems, replacing certain pressure relief valves with new improved valves, and marking the system identification placard on the girt of the replaced part. This proposed AD would also add Airbus Model A330-223F and -243F airplanes to the applicability.

Differences Between the Proposed AD and the Service Information

Goodrich Service Bulletin 4A3928/4A3934-25-374, Revision 1, dated May 8, 2009, specifies replacing certain firing pin cables with an improved firing pin cable, which is not included in this proposed AD.

Costs of Compliance

We estimate that this proposed AD affects 41 airplanes of U.S. registry.

We estimate the following costs to comply with this proposed AD:

Estimated Costs
Action | Labor cost | Parts cost | Cost per product | Cost on U.S. operators
Inspection to determine part numbers | 1 work-hour × $85 per hour = $85 | $0 | $85 | Up to $3,485.

We estimate the following costs to do any necessary replacements that would be required based on the results of the proposed inspection. We have no way of determining the number of aircraft that might need these replacements.

On-Condition Costs
Action | Labor cost | Parts cost | Cost per product
Valve replacement | 1 work-hour × $85 per hour = $85 | $775 | $860 per slide.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-23-01, Amendment 39-15247 (72 FR 62568, November 6, 2007), and adding the following new AD:

Goodrich (Formerly BF Goodrich): Docket No. FAA-2011-0223; Directorate Identifier 2010-NM-161-AD.

Comments Due Date

(a) The FAA must receive comments on this AD action by May 5, 2011.

Affected ADs

(b) This AD supersedes AD 2007-23-01, Amendment 39-15247.

Applicability

(c) This AD applies to Goodrich evacuation systems approved under Technical Standard Order (TSO) TSO-C69b, as installed on the Airbus airplanes, certificated in any category, identified in paragraphs (c)(1), (c)(2), and (c)(3) of this AD.

(1) Model A330-201, -202, -203, -223, -223F, -243, -243F, -301, -321, -322, -323, -341, -342, and -343 airplanes; as identified in Goodrich Service Bulletin 7A1508/09/10/39-25-373, Revision 2, dated May 8, 2009.

(2) Model A340-211, -212, -213, -311, -312, and -313 airplanes; as identified in Goodrich Service Bulletin 7A1508/09/10/39-25-373, Revision 2, dated May 8, 2009.

(3) Model A340-541 and -642 airplanes, as identified in Goodrich Service Bulletins 7A1508/09/10/39-25-373, Revision 2, dated May 8, 2009; and 4A3928/4A3934-25-374, Revision 1, dated May 8, 2009.

Subject

(d) Joint Aircraft System Component (JASC)/Air Transport Association (ATA) of America Code 2560, Emergency Equipment.

Unsafe Condition

(e) This AD was prompted by reports that during workshop testing, certain pressure relief valves did not seal and allowed the pressure in certain slides/rafts to fall below the minimum raft mode pressure for the unit. We are issuing this AD to prevent loss of pressure in the escape slides/rafts after an emergency evacuation, which could result in inadequate buoyancy to support the raft's passenger capacity during ditching and increase the chance for injury to raft passengers.

Compliance

(f) Comply with this AD within the compliance times specified, unless already done.

Part Replacement

(g) Within 36 months after the effective date of this AD, inspect the evacuation systems to determine whether any pressure relief valve having part number (P/N) 4A3641-1, 4A3791-3, 4A3641-26, or 4A3791-6 is installed. A review of airplane maintenance records or the system identification placard on the girt is acceptable in lieu of this inspection if the part number of the pressure relief valves can be conclusively determined from that review.

(h) If any valve having part number (P/N) 4A3641-1, 4A3791-3, 4A3641-26, or 4A3791-6 is identified during the inspection or review specified in paragraph (g) of this AD: Before further flight, do the applicable actions required by paragraphs (h)(1) and (h)(2) of this AD.

(1) Replace all pressure relief valves P/Ns 4A3641-1 and 4A3791-3 with pressure relief valves having P/N 115815-1, and mark the system identification placard on the girt, in accordance with the Accomplishment Instructions of Goodrich Service Bulletin 7A1508/09/10/39-25-373, Revision 2, dated May 8, 2009.

(2) Replace all pressure relief valves having P/Ns 4A3641-26 and 4A3791-6 with pressure relief valves having P/N 115815-1 (for evacuation systems having P/N 4A3934 series units) or 115815-2 (for evacuation systems P/N 4A3928 series units); and mark the system identification placard on the girt; in accordance with the Accomplishment Instructions of Goodrich Service Bulletin 4A3928/4A3934-25-374, Revision 1, dated May 8, 2009.

Parts Installation

(i) As of the effective date of this AD, no person may install a pressure relief valve having part number 4A3641-1, 4A3791-3, 4A3791-6, or 4A3641-26 in the evacuation system on any airplane.

Credit for Actions Accomplished in Accordance With Previous Service Information

(j) Actions accomplished before the effective date of this AD in accordance with Goodrich Service Bulletin 7A1508/09/10/39-25-373, dated March 31, 2008, or Goodrich Service Bulletin 7A1508/09/10/39-25-373, Revision 1, dated August 1, 2008; or Goodrich Service Bulletin 4A3928/4A3934-25-374, dated July 18, 2008; as applicable; are acceptable for compliance with the corresponding requirements of this AD.

Alternative Methods of Compliance (AMOCs)

(k)(1) The Manager, Los Angeles Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(l) For more information about this AD, contact Tracy Ton, Aerospace Engineer, Cabin Safety/Mechanical and Environmental Systems Branch, ANM-150L, FAA, Los Angeles Aircraft Certification Office, 3960 Paramount Boulevard, Lakewood, California 90712-4137; phone: 562-627-5352; fax: 562-627-5210; e-mail: Tracy.Ton@faa.gov.

(m) For service information identified in this AD, contact Goodrich Corporation, Aircraft Interior Products, ATTN: Technical Publications, 3414 South Fifth Street, Phoenix, Arizona 85040; phone: 602-243-2270; e-mail: george.yribarren@goodrich.com; Internet: http://www.goodrich.com/TechPubs. You may review copies of the referenced service information at the FAA, Transport Airplane Directorate, 1601 Lind Avenue, SW., Renton, Washington. For information on the availability of this material at the FAA, call 425-227-1221.

Issued in Renton, Washington, on March 9, 2011.
Kalene C. Yanamura,
Acting Manager, Transport Airplane Directorate, Aircraft Certification Service.

[FR Doc. 2011-6500 Filed 3-18-11; 8:45 am]

BILLING CODE 4910-13-P